DEPARTMENT OF COMMERCE

National Oceanic and Atmospheric Administration

RIN 0648-XC431

Endangered and Threatened Species; Recovery Plan for the North Pacific Right Whale

AGENCY: National Marine Fisheries Service, National Oceanic and Atmospheric Administration, Commerce.

ACTION: Notice of availability.

SUMMARY: The National Marine Fisheries Service (NMFS) announces the adoption and availability of the final Recovery Plan (Plan) for the North Pacific right whale (Eubalaena japonica).

ADDRESSES: Electronic copies of the Final Recovery Plan are available online at http://www.nmfs.noaa.gov/pr/recovery/plans.htm.

FOR FURTHER INFORMATION CONTACT: Shannon Bettridge (301-427-8402), email Shannon.Bettridge@noaa.gov or Larissa Plants (301-427-8403), email Larissa.Plants@noaa.gov.

SUPPLEMENTARY INFORMATION:

Background

Recovery plans describe actions beneficial to the conservation and recovery of species listed under the Endangered Species Act of 1973 (ESA), as amended (16 U.S.C. 1531 et seq.). Section 4(f)(1) of the ESA requires that recovery plans incorporate: (1) Objective, measurable criteria which, when met, would result in a determination that the species is no longer threatened or endangered; (2) site-specific management actions necessary to achieve the Plan's goals; and (3) estimates of the time required and costs to implement recovery actions. The ESA requires the development of recovery plans for each listed species unless such a plan would not promote its recovery.

The Northern right whale (Eubalaena glacialis) has been listed as “endangered” under the Endangered Species Act (ESA) since its passage in 1973. In 2008, NMFS determined that the Northern right whale should be listed as two separate species, the North Pacific right whale and the North Atlantic right whale. North Pacific right whales historically had a wide distribution in the Pacific Ocean, but the population was dramatically reduced by extensive commercial whaling, now prohibited by the International Whaling Commission. Scientists estimate that less than 1,000 individuals remain. Of the commercially exploited “great whales,” the North Pacific right whale is one of the least well studied, and the current status of the North Pacific right whale population is poorly understood. Currently, the population structure of North Pacific right whales has not been adequately defined.

Because the current status of North Pacific right whales is unknown, the primary purpose of the Recovery Plan is to provide a research strategy to obtain data necessary to determine distribution and estimate population abundance, trends, and structure and to identify factors that may be limiting North Pacific right whale recovery. Criteria for the reclassification of the North Pacific right whale are included in the Recovery Plan. In summary, the North Pacific right whale may be reclassified from endangered to threatened when all of the following have been met: (1) Given current and projected threats and environmental conditions, the North Pacific right whale population satisfies the risk analysis standard for threatened status (has no more than a 1 percent chance of extinction in 100 years) and has at least 1,000 mature, reproductive individuals (consisting of at least 250 mature females and at least 250 mature males in each population). Mature is defined as individuals known, estimated, or inferred to be capable of reproduction. Any factors or circumstances that are thought to substantially contribute to a real risk of extinction that cannot be incorporated into a Population Viability Analysis will be carefully considered before downlisting takes place; and (2) none of the known threats to North Pacific right whales are known to limit the continued growth of populations. Specifically, the factors in 4(a)(l) of the ESA are being or have been addressed: (A) The present or threatened destruction, modification or curtailment of a species' habitat or range; (B) overutilization for commercial, recreational or educational purposes; (C) disease or predation; (D) the inadequacy of existing regulatory mechanisms; and (E) other natural or manmade factors.

The population will be considered for delisting if all of the following can be met: (1) Given current and projected threats and environmental conditions, the total North Pacific right whale population satisfies the risk analysis standard for unlisted status (has less than a 10 percent probability of becoming endangered in 20 years). Any factors or circumstances that are thought to substantially contribute to a real risk of extinction that cannot be incorporated into a Population Viability Analysis will be carefully considered before delisting takes place; and (2) none of the known threats to North Pacific right whales are known to limit the continued growth of populations. Specifically, the factors in 4(a)(l) of the ESA are being or have been addressed. The time and cost to recovery is not predictable with the current information on North Pacific right whales. The difficulty in gathering data on North Pacific right whales and uncertainty about the success of passive acoustic monitoring in fulfilling data needs make it impossible to give a timeframe to recovery. While we are comfortable estimating costs for 50 years of plan implementation ($27.283 million), any projections beyond this date are likely to be too imprecise to predict. The anticipated date for removal from the endangered species list also cannot be determined because of the uncertainty in the success of recovery plan actions for North Pacific right whales. The effectiveness of many management activities is not known on a global level. Currently it is impossible to predict when such measures will bring the species to a point at which the protections provided by the ESA are no longer warranted, or even determine whether the species has recovered enough to be downlisted or delisted. In the future, as more information is obtained it should be possible to make more informative projections about the time to recovery, and its expense. NMFS has reviewed the Plan for compliance with the requirements of the ESA section 4(f), determined that it does incorporate the required elements, and is therefore adopting it as the Final Recovery Plan North Pacific Right Whales.

Authority: 16 U.S.C. 1531 et seq.

Dated: June 4, 2013.
Angela Somma,
Chief, Endangered Species Division, Office of Protected Resources, National Marine Fisheries Service.

[FR Doc. 2013-13527 Filed 6-6-13; 8:45 am]

BILLING CODE 3510-22-P